DEPARTMENT OF HOUSING AND URBAN DEVELOPMENT

[Docket No. FR-7040-N-10]

60-Day Notice of Proposed Information Collection: Operating Fund Shortfall Program Financial Reporting and Monitoring; OMB Control No.: 2577-New

AGENCY: Office of the Assistant Secretary for Public and Indian Housing, HUD.

ACTION: Notice.

SUMMARY: HUD is seeking approval from the Office of Management and Budget (OMB) for the information collection described below. In accordance with the Paperwork Reduction Act (PRA), HUD is requesting comment from all interested parties on the proposed collection of information. The purpose of this notice is to allow for 60 days of public comment.

DATES: Comments Due Date: November 16, 2021.

ADDRESSES: Interested persons are invited to submit comments regarding this proposal. Comments should refer to the proposal by name/or OMB Control number and should be sent to: Colette Pollard, Reports Management Officer, QDAM, Department of Housing and Urban Development, 451 7th Street SW, Room 4176, Washington, DC 20410-5000; telephone 202-402-5564 (this is not a toll-free number) or email Colette.Pollard@hud.gov for a copy of the proposed forms or other available information. Persons with hearing or speech impairments may access this number through TTY by calling the toll-free Federal Relay Service at (800) 877-8339.

FOR FURTHER INFORMATION CONTACT: Dacia Rogers, Office of Policy, Programs and Legislative Initiatives, PIH, Department of Housing and Urban Development, 451 7th Street SW, Washington, DC 20410; telephone 202-402-3374. This is not a toll-free number. Persons with hearing or speech impairments may access this number through TTY by calling the toll-free Federal Relay Service at (800) 877-8339. Copies of available documents submitted to OMB may be obtained from Ms. Rogers.

SUPPLEMENTARY INFORMATION: This notice informs the public that HUD is seeking approval from OMB for the information collection described in Section A.

A. Overview of Information Collection

Title of Information Collection: OpFund Shortfall Program Financial Reporting and Monitoring.

OMB Control Number: 2577-New.

Type of Request: New.

Agency Form Numbers: HUD-XXXXX, HUD-XXXXX, HUD-XXXXX, HUD-XXXXX, HUD-52574.

Description of the Need for the Information and Proposed Use: The Shortfall Program has been in operation for two years and was created through annual Appropriations laws providing a $25 million set-aside in the Public Housing Fund to assist Public Housing Agencies (PHAs) experiencing or at risk of financial shortfalls. The program targets PHAs with the lowest Public Housing reserves. Funding is allocated to raise PHAs' reserves to two months of expenses. The calculation that determines this value is outlined in Section 4 of the Shortfall Notice: PIH-2021-12. Along with the infusion of funds, PHAs create Improvement Plans to improve their financial situation and address financial issues. However, without a Paperwork Reduction Act (PRA) approved information collection, it is difficult to monitor the PHAs financial changes and successes in an expeditious way. OMB requested that PIH begin to collect enough information from PHAs to evaluate the efficacy of the program in improving PHA's financial situation. This PRA information collection is being submitted to improve the effectiveness of the program (through monitoring and risk management) which ultimately helps the PHAs reach sustainable financial success. This PRA information collection will include a short-form budget for PHAs to report their budget and actuals through the year so that financial and operational performance can be evaluated; an Action Item Template, which will increase accountability towards making financial improvements; and Shortfall Program Application and Appeal forms. These forms will be accessible to PHA and HUD staff through a web-based portal to increase operational efficiency.

Respondents (i.e., affected public): Public Housing Agencies.

Estimated Number of Respondents: 3,300.

Estimated Number of Responses: 4,274.

Frequency of Response: Varies.

Average Hours per Response: .55.

Total Estimated Burdens: 537.5.

Burden hours for form(s) showing zero burden hours in this collection are reflected in the OMB approval number cited or do not have a reportable burden.

Information collection | Number of respondents | * Average number of reponses per respondent | Total annual responses | Burden hours/minutes per response | Total hours | Hourly cost | Total annual cost
HUD-XXXXX (y) (Mini Shortfall Budget) | 194 | 3 | 582 | 0.5 | 291 | $34.86 | $10,144.26
HUD-XXXXX(z) (Action Item Template) | 194 | 1 | 194 | 1 | 194 | 34.86 | 6,762.84
HUD-52574 (OMB 2577-0026) | 3,300 | 1 | 3,300 | 0 | 0 | 0 | 0.00
HUD-XXXXX(a) (Shortfall Application) | 194 | 1 | 194 | 0.25 | 48.5 | 34.86 | 1,690.71
HUD-XXXXX(b) (Shortfall Appeal) | 4 | 1 | 4 | 1 | 4 | 34.86 | 139.44
Totals | 3,300 | varies | 4,274 | 2.75 | 537.5 |  | 18,737.25

B. Solicitation of Public Comment

This notice is soliciting comments from members of the pubic and affected parties concerning the collection of information described in Section A on the following:

(1) Whether the proposed collection of information is necessary for the proper performance of the functions of the agency, including whether the information will have practical utility;

(2) The accuracy of the agency's estimate of burden of the proposed collection of information;

(3) Ways to enhance the quality, utility and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Dated: September 10, 2021.
Laura Miller-Pittman,
Chief, Office of Policy, Programs, and Legislative Initiatives.

[FR Doc. 2021-20132 Filed 9-16-21; 8:45 am]

BILLING CODE 4210-67-P